DEPARTMENT OF TRANSPORTATION

Federal Transit Administration

Fiscal Year 2018 Competitive Funding Opportunity: Access & Mobility Partnership Grants

AGENCY: Federal Transit Administration (FTA), DOT.

ACTION: Notice of Funding Opportunity (NOFO).

SUMMARY: The Federal Transit Administration (FTA) announces with this notice the Access & Mobility Partnership Grants, which are two opportunities to apply for funding under two competitive grant programs. First, FTA makes available $3,903,715 in funding for the Innovative Coordinated Access and Mobility Pilot Program (ICAM Pilot Program; Catalog of Federal Domestic Assistance (CFDA) number: 20.513). As required by Federal transit law, funds will be awarded competitively to finance innovative capital projects for the transportation disadvantaged that will improve the coordination of transportation services and non-emergency medical transportation services.

Second, FTA makes available $2,434,767 in funding for a Human Services Coordination Research (HSCR) Program with funds available under the Public Transportation Innovation Program (Catalog of Federal Domestic Assistance (CFDA) number: 20.514). Research activities awarded under this competitive program will support the implementation of innovative strategies in the coordination of human services transportation to provide more effective and efficient public transportation services to seniors, individuals with disabilities, and low-income individuals. Proposed research projects should address gaps identified in the locally developed Coordinated Public Transit-Human Services Transportation Plan. The HSCR funds will finance operating and capital project expenditures to develop and deploy projects that improve transportation services for targeted populations as noted above through methods that effectively and efficiently coordinate human services transportation.

The Access and Mobility Partnership Grants are two separate and distinct funding opportunities that seek to improve access to public transportation through building partnerships among health, transportation, and other service providers.

DATES: Applicants must submit completed proposals for each funding opportunity through the GRANTS.GOV “APPLY” function by 11:59 p.m. Eastern Daylight Time November 13, 2018. Prospective applicants should register as soon as possible on the GRANTS.GOV website to ensure they can complete the application process before the submission deadline. Application instructions are available on FTA's website at http://transit.dot.gov/howtoapply and in the “FIND” module of GRANTS.GOV. The GRANTS.GOV funding opportunity ID for the ICAM Pilot Program is FTA-2018-002-ICAM. The GRANTS.GOV funding opportunity ID for the HSCR Program is FTA-2018-006-HSCR. The FTA will not accept mail and fax submissions.

FOR FURTHER INFORMATION CONTACT: Kelly Tyler, FTA Office of Program Management; Phone: (202) 366-3102; Email: Kelly.Tyler@dot.gov; Fax: (202) 366-3475.

SUPPLEMENTARY INFORMATION:

Table of Contents

A. Program Description

B. Federal Award Information

C. Eligibility Information

D. Application and Submission Information

E. Application Review Information

F. Federal Award Administration Information

G. Federal Awarding Agency Contact

A. Program Description

The Access and Mobility Partnership Grants are two separate and distinct funding opportunities that seek to improve access to public transportation through building partnerships among health, transportation, and other service providers. Further, these funding opportunities seek to fund projects that enhance mobility options through increased coordination efforts.

1. Innovative Coordinated Access and Mobility Pilot Program

Section 3006(b) of the Fixing America's Surface Transportation (FAST) Act (Pub. L. 114-94, Dec. 4, 2015) authorizes FTA to award grants for innovative coordinated access and mobility projects for the transportation disadvantaged population that improve the coordination of transportation services and non-emergency medical transportation services. The goals of the ICAM Pilot Program are to: (1) Increase access to care; (2) improve health outcomes; and (3) reduce healthcare costs.

Throughout the country, communities are experimenting with ways to overcome barriers to these essential services by leveraging partnerships across transportation, health, and wellness providers. The ICAM Pilot Program grants will support capital projects that address the challenges the transportation disadvantaged face when accessing healthcare, such as: Getting to the doctor or returning home from a hospital procedure, or going to rehabilitation, behavioral health services, the pharmacy, or free health screening services.

Through the ICAM Pilot Program, FTA will fund projects that enhance access to healthcare by utilizing mobility management, health and transportation provider partnerships, technology, or other actions that drive change. The ICAM grants will operate as pilots for up to eighteen (18) months. Within the first year, projects must be able to demonstrate impacts related to the goals of ICAM.

To support the goals of the ICAM Pilot Program, recipients will:

• Develop replicable, innovative, and sustainable solutions to healthcare access challenges;

• foster local partnerships between health, transportation, home and community-based services, and other sectors to collaboratively develop and support solutions that increase healthcare access; and

• demonstrate how transportation solutions improve access to healthcare and health outcomes and reduce costs to the healthcare and transportation sectors.

Successful projects will work collaboratively and leverage partnerships among Federal agencies of the Coordinating Council on Access and Mobility (CCAM), including the Department of Health and Human Services' operating divisions such as the Administration for Community Living, the Health Resources and Services Administration, and the Centers for Medicare and Medicaid Services. Partnerships that cross health and transportation sectors facilitate better health for communities by increasing access to health/wellness services.

The FTA will award grants to applicants who are ready to implement public transportation healthcare access solutions and who will build upon previous planning activities and private or federally funded research activities.

2. Human Services Coordination Research Program

The HSCR program is funded through the Public Transportation Innovation Program, 49 U.S.C. 5312(b), and will build upon identified gaps in services or planning activities for the improvement of services, as outlined in a locally developed Coordinated Public Transit-Human Services Transportation Plan. Proposals should identify innovative solutions to provide more effective and efficient public transportation services to seniors, individuals with disabilities, and low-income individuals, utilizing coordination methods and concepts such as mobility management improvements, travel management systems, and operating efficiencies. The FTA will award capital or operating assistance to implement a coordinated public transportation project that offers innovative solutions to improve local coordination or access to coordinated transportation services. Additionally, this program seeks to support transit agencies, human service agencies, and local communities as they:

• Integrate new mobility tools like smart phone apps, demand-responsive bus and van services;

• aim to improve multi-modal connectivity for seniors, people with disabilities, and low-income individuals;

• address accessibility issues through innovative technologies and practices;

• improve the quality of the traveler experience and the transit product; and

• identify new mobility-enhancing practices and technologies.

The HSCR program is an opportunity for communities to put into practice innovative ideas, practices, and approaches to address the overall coordination goals of the CCAM at the local level. The HSCR grant awardees will have up to eighteen (18) months from the time of the award to complete the project. Within the first year, projects must be able to demonstrate impacts related to the expected outcome as described in the Coordinated Public Transit Human Services Transportation Plan.

B. Federal Award Information

1. Innovative Coordinated Access and Mobility Pilot Program

Section 3006(b) of the FAST Act authorizes $3,250,000 in FY 2018 for grants under the ICAM Pilot Program. The $3,903,715 of funds that FTA is making available includes the FY 2018 appropriated amount of $3,250,000, combined with $187,822 in FY 2016 funds and $465,893 in FY 2017 funds that remain available.

2. Human Services Coordination Research Program

In FY 2018, FTA makes available $2,434,767 under the Public Transportation Innovation Program, 49 U.S.C. 5312(b), to finance capital and/or operating projects that develop and deploy an enhancement or improvement to the coordination of human services transportation. The total amount of funds available includes $2,148,053 in remaining balances from FY 2015 and $286,714 from FY 2016.

For both funding opportunities, ICAM and HSCR, the FTA will grant pre-award authority starting on the date of project award announcements for the awards. Funds are available only for projects that have not incurred costs prior to the announcement of project selections. The FTA may supplement the total currently available with future appropriations.

C. Eligibility Information

1. Innovative Coordinated Access and Mobility Pilot Program

i. Eligible Applicants

Eligible applicants for awards are recipients and subrecipients of the Enhanced Mobility for Seniors and Individuals with Disabilities Program, which are defined under 49 U.S.C. 5310: designated recipients, States and local governmental authorities, private nonprofit organizations, and operators of public transportation. Proposals may contain projects to be implemented by the recipient or its subrecipients. Eligible subrecipients include public agencies, private nonprofit organizations, and private providers engaged in public transportation. If a single project proposal involves multiple public transportation providers, such as an agency that acquires vehicles that another agency will operate, the proposal must include a detailed statement regarding the role of each public transportation provider in the implementation of the project.

Applicants may serve as the lead agency of a local consortium that includes stakeholders from the transportation, healthcare, human services, or other sectors, including private and nonprofit entities engaged in the coordination of nonemergency medical transportation services for people who are transportation disadvantaged. Members of this consortium are eligible as subrecipients. The applicant must also demonstrate that the proposed project was planned through an inclusive process with the involvement of the transportation, healthcare, and human services industries. Applicants must submit an implementation plan and schedule as part of the proposal.

ii. Cost Sharing or Matching

The maximum Federal share of project costs under the ICAM Pilot Program is 80 percent. The applicant provides a local share of at least 20 percent of the net project cost and must document the source of the local match in the grant application.

Eligible sources of local match include the following:

• Cash from non-Government sources other than revenues from providing public transportation services;

• revenues derived from the sale of advertising and concessions;

• amounts received under a service agreement with a State or local social service agency or private social service organization;

• revenues generated from value capture financing mechanisms;

• funds from an undistributed cash surplus;

• replacement or depreciation cash fund or reserve; or

• new capital.

In addition, the applicant may use transportation development credits or documentation of in-kind match for local match in the application.

iii. Eligible Projects

Under section 3006(b) of the FAST Act eligible projects are capital projects, as defined in 49 U.S.C. 5302(3). FTA may make grants to assist in financing innovative projects for the transportation disadvantaged that improve the coordination of transportation services and non-emergency medical transportation services including: The deployment of coordination technology; projects that create or increase access to community one-call/one-click centers; and other innovative projects. The FTA's goal for these pilot demonstration grants is to identify and test promising, innovative, coordinated mobility strategies for healthcare access solutions that other communities can replicate. Only one project may be included in each application.

2. Human Services Coordination Research Program

i. Eligible Applicants

Eligible applicants for awards are State and local governmental entities, providers of public transportation, private or non-profit organizations. Proposals may contain projects the recipient or its subrecipients will implement. Eligible subrecipients include public agencies, private nonprofit organizations, and private providers engaged in public transportation.

ii. Cost Sharing or Matching

For projects funded under the HSCR program, the maximum Federal share of capital project costs is 80 percent and the maximum Federal share of operating project costs is 50 percent. The applicant must document the source(s) of the local match in the grant application.

Eligible local-match sources include the following:

• Cash from non-Government sources other than revenues from providing public transportation services;

• revenues derived from the sale of advertising and concessions;

• revenues generated from value capture financing mechanisms;

• funds from an undistributed cash surplus;

• replacement or depreciation cash fund or reserve;

• new capital; or

• in-kind contributions.

In addition, the applicant may use transportation development credits for local match.

iii. Eligible Projects

Eligible projects under this program are implementation-ready capital and/or operating projects that enhance public transportation coordination and access through innovations that:

• Increase systems coordination of transportation services;

• use mobility management and improvements and/or travel management systems;

• provide more effective and efficient public transportation service, including services to seniors, individuals with disabilities, and low-income individuals; or

• implement data and communication system advancements.

Projects eligible for the HSCR funds will link directly to an adopted Coordinated Public Transit-Human Services Transportation Plan and the implementation strategy for an integrated coordinated transportation system. Only one project may be included in each application.

D. Application and Submission Information

1. Address To Request Application

Applications must be submitted through GRANTS.GOV. Applicants can find general information for submitting applications through GRANTS.GOV at https://www.transit.dot.gov/funding/grants/applying/applying-fta-funding, along with specific instructions for the forms and attachments required for submission. Mail and fax submissions will not be accepted. A complete proposal submission consists of two forms:

• The SF-424 Mandatory Form (downloadable from GRANTS.GOV), and

• the appropriate supplemental form for the FY 2018 ICAM Pilot Program or the FY 2018 HSCR Program (downloadable from GRANTS.GOV or at https://www.transit.dot.gov/funding/grants/enhanced-mobility-seniors-individuals-disabilities-section-5310).

Applicants may also attach additional supporting information. Failure to submit the information as requested can delay or prevent review of the application.

2. Content and Form of Application Submission

i. Proposal Submission

A complete proposals submission consists of at least two forms:

• The SF-424 Mandatory Form, and

• the supplemental form for the FY 2018 ICAM Pilot Program or the FY 2018 HSCR Program.

The application must include responses to all sections of the SF-424 mandatory form and the supplemental form unless a section is indicated as optional. The FTA will use the information on the supplemental form to determine applicant and project eligibility for the program and to evaluate the proposal against the selection criteria described in part E of this notice. The FTA will accept only one supplemental form per SF-424 submission. The FTA encourages States and other applicants to consider submitting a single supplemental form that includes multiple activities to be evaluated as a consolidated proposal. If States or other applicants choose to submit separate proposals for individual consideration by FTA, they must submit each proposal with a separate SF-424 and supplemental form.

Applicants may attach additional supporting information to the SF-424 submission, including but not limited to letters of support, project budgets, fleet status reports, or excerpts from relevant planning documents. Supporting documentation must be described and referenced by file name in the appropriate response section of the supplemental form, or it may not be reviewed.

Information such as proposer name, Federal amount requested, local match amount, description of areas served, etc., may be requested in varying degrees of detail on both the SF-424 form and supplemental form. Proposers must fill in all fields unless stated otherwise on the forms. If applicants copy information into the supplemental form from another source, they should verify that the supplemental form has fully captured pasted text and that it has not truncated the text due to character limits built into the form. Proposers should use both the “Check Package for Errors” and the “Validate Form” validation buttons on both forms to check all required fields on the forms. Applicants should also ensure that the Federal and local amounts specified are consistent.

ii. Application Content

The SF-424 Mandatory Form and the supplemental form will prompt applicants for the required information, including:

a. Applicant Name

b. Dun and Bradstreet (D&B) Data Universal Numbering System (DUNS) number

c. Key contact information (including contact name, address, email address, and phone)

d. Congressional district(s) where project will take place

e. Project Information (including title, an executive summary, and type)

f. A detailed description of the need for the project

g. A detailed description of how the project will support the ICAM Pilot or the HSCR Program objectives

h. Evidence that the project is consistent with local and regional planning documents and evidence of a locally developed and adopted Coordinated Public Transit-Human Services Transportation Plan (where applicable)

i. Evidence that the applicant can provide the local cost share

j. A description of the technical, legal, and financial capacity of the applicant

k. A detailed project budget (up to 18 months or less)

l. An explanation of the scalability of the project

m. Details on the local matching funds

n. A detailed project timeline

3. Unique Entity Identifier and System for Award Management (SAM)

Each applicant is required to: (1) Be registered in SAM before submitting an application; (2) provide a valid unique entity identifier in its application; and (3) continue to maintain an active SAM registration with current information at all times during which the applicant has an active Federal award or an application or plan under consideration by FTA. These requirements do not apply if the applicant: (1) Is an individual; (2) is excepted from the requirements under 2 CFR 25.110(b) or (c); or (3) has an exception approved by FTA under 2 CFR 25.110(d). FTA may not make an award until the applicant has complied with all applicable unique entity identifier and SAM requirements. If an applicant has not fully complied with the requirements by the time FTA is ready to make an award, FTA may determine that the applicant is not qualified to receive an award and use that determination as a basis for making a Federal award to another applicant. All applicants must provide a unique entity identifier provided by SAM. Registration in SAM may take as little as 3-5 business days, but there can be unexpected steps or delays. For example, the applicant may need to obtain an Employer Identification Number. FTA recommends allowing ample time, up to several weeks, to complete all steps. For additional information on obtaining a unique entity identifier, please visit www.sam.gov.

The FTA will provide further instructions on registration through an introductory applicant training session. Dates and times for the training session will be posted on FTA's website at https://www.transit.dot.gov/funding/grants/enhanced-mobility-seniors-individuals-disabilities-section-5310.

4. Submission Dates and Times

Project proposals must be submitted electronically through GRANTS.GOV by 11:59 p.m. Eastern on November 13, 2018. Mail and fax submissions will not be accepted.

FTA urges applicants to submit applications at least 72 hours prior to the due date to allow time to correct any problems that may have caused either GRANTS.GOV or FTA systems to reject the submission. Proposals submitted after the deadline will only be considered under extraordinary circumstances not under the applicant's control.

Deadlines will not be extended due to scheduled website maintenance. GRANTS.GOV scheduled maintenance and outage times are announced on the GRANTS.GOV website.

Within 48 hours after submitting an electronic application, the applicant should receive two email messages from GRANTS.GOV: (1) Confirmation of successful transmission to GRANTS.GOV; and (2) confirmation of successful validation by GRANTS.GOV. If the applicant does not receive confirmation of successful validation or receives a notice of failed validation or incomplete materials, the applicant must address the reason for the failed validation, as described in the email notice, and resubmit before the submission deadline. If making a resubmission for any reason, applicants must include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to update their registration before submitting an application. Registration in SAM is renewed annually and persons making submissions on behalf of the Authorized Organization Representative (AOR) must be authorized in GRANTS.GOV by the AOR to make submissions.

5. Funding Restrictions

Funds under the ICAM Pilot Program may be used for capital expenditures only. Funds under the HSCR Program may be used for operating or capital expenditures that are tied to the locally developed Coordinated Public Transit-Human Services Transportation Plan.

6. Other Submission Requirements

The FTA encourages applicants to identify scaled funding options in case insufficient funding is available to fund a project at the full requested amount. If an applicant indicates that a project is scalable, the applicant must provide an appropriate minimum funding amount that will fund an eligible project that achieves the objectives of the program and meets all relevant program requirements. The applicant must provide a clear explanation of how a reduced reward would affect the project budget. The FTA may award a lesser amount whether the applicant provides a scalable option.

E. Application Review Information

1. Project Evaluation Criteria

i. Innovative Coordinated Access and Mobility Pilot Program

Each application submitted for the ICAM Pilot Program must include: (1) A detailed description of the project; (2) an identification of all project partners (if any) and their specific role in the eligible project; (3) specific performance measures the project will use to quantify actual outcomes against expected outcomes; and (4) a description of how the project will:

• Improve local coordination or access to coordinated transportation services;

• reduce duplication of service, if applicable; and

• provide innovative solutions in the State or community.

The FTA will evaluate proposals submitted according to the following criteria: (a) Demonstration of need; (b) demonstration of benefits; (c) planning and partnerships; (d) local financial commitment; (e) project readiness; and (f) technical, legal, and financial capacity. Each applicant is encouraged to demonstrate the responsiveness of a project to all criteria with the most relevant information that the applicant can provide, regardless of whether such information has been specifically requested or identified in this notice.

a. Demonstration of Need

The FTA will evaluate proposals based on how the proposed project will address the need or challenges to improving coordination of transportation services and non-emergency medical transportation services. The FTA will consider both the scope of the overall need or challenge, and the size of the specific segment of the population served by the proposed project.

b. Demonstration of Benefits

The FTA will evaluate proposals on the benefits provided by the proposed project. Benefits will be tied to the ICAM program's goals of increased access to care, improved health outcomes, and reduced healthcare costs. Benefits identified in the proposals will be evaluated at both the individual level, and that of the local health and transportation providers. Proposals will be judged on the extent to which the proposed project demonstrates a benefit to the transportation need or challenge to mobility and healthcare access demonstrated above. Projects will be evaluated on the ability of the proposed project to yield data demonstrating impacts on the goals of FTA's ICAM Program: To increase access to care; improve health outcomes; and reduce healthcare costs. Proposals must show that the applicant will be able to provide impact data during and after the pilot project. FTA will conduct an independent evaluation of the demonstration grant. At various points in the deployment process and at the end of the pilot project, the recipient will be asked by FTA, or its designee, to provide performance measures required to conduct this evaluation. FTA requires each applicant to submit the performance data on a quarterly basis. This data will be used by FTA to produce the required Annual Report to Congress that contains detailed description of the activities carried out under the pilot program, and an evaluation of the program, including an evaluation of the performance measures described.

c. Planning and Partnerships

Applicants must describe the eligible project and outline project partners and their specific role in the project—including private and nonprofit entities involved in the coordination of nonemergency medical transportation services for the transportation disadvantaged. Applicants must include a description of how the eligible project would: (1) Improve local coordination or access to coordinated transportation service; (2) reduce duplication of service, if applicable; and (3) provide innovative solutions in the State and/or community. Applicants should provide evidence of strong commitment from key partners, including letters of support from relevant local stakeholders. An eligible recipient may submit an application in partnership with other entities that intend to participate in the implementation of the project. Any changes to the proposed partnerships will require FTA's advance approval and must be consistent with the scope of the approved project.

d. Local Financial Commitment

Applicants must identify the source of the local share and describe whether such funds are currently available for the project or will need to be secured if the project is selected for funding. The FTA will consider the availability of the local share as evidence of local financial commitment to the project. In addition, an applicant may propose a local share that is greater than the minimum requirement or provide documentation of previous local investment in the project as evidence of local financial commitment.

e. Project Readiness

The FTA will evaluate the project on the proposed schedule and the applicant's ability to implement it. Applicants should indicate the short-term, mid-range, and long-term goals for the project. Applicants also must describe how the project will help the transportation disadvantaged and improve the coordination of transportation services and non-emergency medical transportation services, such as the deployment of coordination technology, projects that create or increase access to community One-Call/One-Click Centers, mobility management, etc. Proposals must provide specific performance measures the eligible project will use to quantify actual outcomes against expected outcomes. The FTA will evaluate the project on the extent to which it was developed inclusively, incorporating meaningful involvement from key stakeholders including consumer representatives of the target groups and providers from the healthcare, transportation, and human services sectors, among others. The applicant must show significant, ongoing involvement of the project's target population.

f. Technical, Legal and Financial Capacity

The FTA will evaluate proposals on the capacity of the lead agency and any partners to successfully execute the pilot effort. The applicant should have no outstanding legal, technical, or financial issues that would make this a high-risk project. The FTA will evaluate each proposal (including the business plan, financial projections, and other relevant data) for feasibility and longer-term sustainability of both the pilot project as well as the proposed project at full deployment. It is FTA's intent to select projects with a high likelihood of long-term success and sustainability.

ii. Human Services Coordination Research Program

Each application for the HSCR Program must include a statement of purpose detailing: (1) The need being addressed; (2) the short- and long-term goals of the project, including opportunities for future innovation and development and benefits to riders of public transportation; (3) how the project will improve public transportation service for seniors, individuals with disabilities, and low-income individuals; and (4) the short- and long-term funding requirements to complete the project and any future objectives of the project.

FTA will evaluate proposals submitted according to the following criteria: (a) Demonstration of need; (b) demonstration of benefits; (c) coordination, planning and partnerships; (d) local financial commitment; (e) project readiness; and (f) technical, legal and financial capacity. The FTA encourages each applicant to demonstrate how a project supports all criteria with the most relevant information the applicant can provide, regardless of whether such information has been specifically requested or identified in this notice.

a. Demonstration of Need

The FTA will evaluate proposals based on how the proposed project will address the need for or challenges to improving coordination of transportation services as outlined in the implementation strategy of a locally developed, Coordinated Public Transit-Human Services Transportation Plan. The FTA will consider both the scope of the overall need or challenge, and the size of the specific segment of the population served by the proposed project.

b. Demonstration of Benefits

The FTA will evaluate proposals on the benefits provided by the proposed project. The FTA will judge proposals based on how much the proposed project will benefit the implementation of the coordination activity and enhance transportation services for the targeted population. The HSCR Program provides an opportunity for communities to put into practice new and innovative ideas, practices, and approaches that address the overall coordination goals of the CCAM at the local level. The FTA will evaluate how the project supports the following goals:

1. Implementing new and innovative strategies to increase human services transportation through interagency cooperation;

2. improving access to cost-effective transportation services; and

3. encouraging enhanced access to transportation resources.

Proposals must show that the applicant will be able to provide impact data during and at the conclusion of the project. FTA will conduct an independent evaluation of the demonstration grant. At various points in the deployment process and at the end of the pilot project, the recipient will be asked by FTA, or its designee, to provide performance measures required to conduct this evaluation. FTA requires each applicant to submit the performance data on a quarterly basis. This data will be used by FTA to produce the required Annual Report to Congress that contains detailed description of the activities carried out under the program, and an evaluation of the program, including an evaluation of the performance measures described.

c. Demonstration of Coordination, Planning, and Partnerships

Applicants must describe the eligible project and outline project partners and their specific role in the project. This includes private and nonprofit entities involved in the coordination of human services transportation services for the transportation disadvantaged. Applicants should describe how the eligible project would provide more effective and efficient public transportation service for:

1. Seniors;

2. individuals with disabilities; and

3. low-income individuals.

Applicants must provide evidence of strong commitment from key partners, including letters of support from participating human services agencies and all other relevant local stakeholders. An eligible recipient may submit an application in partnership with other entities that intend to participate in the implementation of the project. Any changes to the proposed partnerships will require FTA's advance approval and must be consistent with the scope of the approved project.

d. Demonstration of Coordination, Planning, and Partnerships

Applicants must identify the source of the local share and describe whether such funds are currently available for the project or will need to be secured if the project is selected for funding. The FTA will consider the availability of the local share as evidence of local financial commitment to the project. In addition, an applicant may propose a local share that is greater than the minimum requirement or provide documentation of previous local investment in the project as evidence of local financial commitment.

e. Project Readiness

The FTA will evaluate the proposed schedule and the applicant's ability to implement it. Applicants should indicate the short-term, mid-range, and long-term goals for the project. Applicants should also describe how the project will help the targeted populations and improve the overall coordination of transportation services such as non-emergency medical transportation services. This includes the deployment of coordination technology, capital and operating efficiencies, mobility management, etc. Proposals should provide specific performance measures that the applicant will use to quantify actual outcomes against expected outcomes. The FTA will evaluate the project proposal based on how much the project is directly tied to a locally developed Coordinated Public Transit-Human Services Transportation Plan. The applicant must show significant, ongoing involvement of the project's target population.

f. Technical, Legal and Financial Capacity

The FTA will evaluate the capacity of the lead agency and any partners to successfully execute the research effort. There should be no outstanding legal, technical, or financial issues with the applicant that would make this a high-risk project. The FTA will evaluate each proposal (including the business plan, financial projections, and other relevant data) for feasibility and longer-term sustainability. It is FTA's intent to select projects with a high likelihood of long-term success, sustainability, and ability to be replicated in other communities.

2. Review and Selection Process

In addition to other FTA staff that may review the proposals, a technical evaluation committee will evaluate proposals based on the published evaluation criteria. After applying the above preferences, the FTA Administrator will consider the following key U.S. Department of Transportation objectives:

• Supporting economic vitality at the national and regional level;

• Utilizing alternative funding sources and innovative financing models to attract non-Federal sources of infrastructure investment;

• Accounting for the life-cycle costs of the project to promote the state of good repair;

• Using innovative approaches to improve safety and expedite project delivery; and

• Holding grant recipients accountable for their performance and achieving specific, measurable outcomes identified by grant applicants.

Prior to making an award, FTA is required to review and consider any information about the applicant that is in the Federal Awardee Performance and Integrity Information Systems (FAPIIS) accessible through SAM. An applicant may review and comment on information about itself that a Federal awarding agency previously entered. The FTA will consider any comments by the applicant, in addition to the other information in FAPIIS, in making a judgment about the applicant's integrity, business ethics, and record of performance under Federal awards when completing the review of risk posed by applicants as described in 2 CFR 200.205, Federal Awarding Agency Review of Risk Posed by Applicants. FTA may consider geographic diversity, and/or the applicant's receipt of other discretionary awards in determining the allocation of program funds.

F. Federal Award Administration

1. Federal Award Notices

The FTA Administrator will announce the final project selections on the FTA website. Project recipients should contact their FTA Regional Office for additional information regarding allocations for projects under each program.

At the time project selections are announced, FTA will extend pre-award authority for the selected projects. There is no blanket pre-award authority for these projects before announcement.

2. Award Administration

There is no minimum or maximum grant award amount; however, FTA intends to fund as many meritorious projects as possible. The FTA will only consider proposals from eligible recipients for eligible activities. Due to funding limitations, projects selected for funding may receive less than the amount originally requested. In those cases, applicants must be able to demonstrate that the proposed projects are still viable and can be completed with the amount awarded.

3. Administrative and National Policy Requirements

i. Pre-Award Authority

The FTA will issue specific guidance to recipients regarding pre-award authority at the time of selection. The FTA does not provide pre-award authority for competitive funds until projects are selected, and there are Federal requirements that must be met before costs are incurred. For more information about FTA's policy on pre-award authority, please see the FY 2018 Apportionments Notice published on July 16, 2018, at https://www.gpo.gov/fdsys/pkg/FR-2018-07-16/pdf/2018-14989.pdf.

ii. Grant Requirements

Selected applicants will submit a grant application through FTA's electronic grant management system and adhere to the customary FTA grant requirements. All competitive grants, regardless of award amount, will be subject to the congressional notification and release process. The FTA emphasizes that third-party procurement applies to all funding awards, as described in FTA Circular 4220.1F, “Third Party Contracting Guidance.” However, FTA may approve applications that include a specifically identified partnering organization(s) (2 CFR 200.302(f)). When included, the application, budget, and budget narrative should provide a clear understanding of how the selection of these organizations is critical for the project and give sufficient detail about the costs involved.

iii. Planning

The FTA encourages applicants to engage the appropriate State Departments of Transportation, Regional Transportation Planning Organizations, or Metropolitan Planning Organizations in areas to be served by the project funds available under these programs. Additionally, project proposals should be directly tied to the locally developed Coordinated Public Transit-Human Services Transportation Plan.

iv. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project unless FTA issues a written determination otherwise. The applicant must submit the Certifications and Assurances before receiving a grant if it does not have current certifications on file.

v. Reporting

Post-award reporting requirements include submission of Federal Financial Reports and Milestone Progress Reports in FTA's electronic grants management system. An independent evaluation of the pilot program or research grant may occur at various points in the deployment process and at the end of the pilot project. In addition, FTA is responsible for producing an Annual Report to Congress that compiles evaluations of selected projects, including an evaluation of the performance measures identified by the applicants. All applicants must develop an evaluation plan to measure the success or failure of their projects and to describe any plans for broad-based implementation of successful projects. The FTA may request data and reports to support the independent evaluation and annual report.

G. Federal Awarding Agency Contact

For questions about applying for each of the programs outlined in this notice, please contact the Program Manager, Kelly Tyler, at Federal Transit Administration, phone: (202) 366-3102, fax: (202) 366-3475, or email, Kelly.Tyler@dot.gov. A TDD is available at 1-800-877-8339 (TDDFIRS). Additionally, you may visit FTA's website for this program at https://www.transit.dot.gov/funding/grants/enhanced-mobility-seniors-individuals-disabilities-section-5310. To ensure that applicants receive accurate information about eligibility or the program, applicants are encouraged to contact FTA directly with questions, rather than through intermediaries or third parties. FTA staff may also conduct briefings on the FY 2018 competitive grants selection and award process upon request.

Issued in Washington, DC.
K. Jane Williams,
Acting Administrator.

[FR Doc. 2018-19897 Filed 9-12-18; 8:45 am]

BILLING CODE P